DEPARTMENT OF JUSTICE

Office of Justice Programs

Agency Information Collection Activities: Proposed Collection; Comments Requested

ACTION: 30-day notice of information collection under review: annual parole survey, annual probation survey, and annual probation survey (short form).

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register Volume 70, Number 83, page 22705 on May 2, 2005, allowing for a 60 day comment period.

The purpose of this notice is to allow for an additional 30 days for public comment until August 8, 2005. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: Annual Parole Survey, Annual Probation Survey, and Annual Probation Survey (Short Form).

(3) Agency form number, if any, and the applicable component of the Department sponsoring the collection: Form Numbers: CJ-7, CJ-8, and CJ-8A. Corrections Statistics, Bureau of Justice Statistics, Office of Justice Programs.

(4) Affected public who will be asked or required to respond, as well as a brief abstract: Primary: State, local or tribal governments: State Departments of Corrections or State probation and Parole authority. City and county courts and probation offices for which a central reporting authority does not exist. Other: Federal Government: The Federal Bureau of Prisons.

Brief Abstract: For the CJ-7 form, 54 central reporters (two State jurisdictions in California and one each from the remaining States, the District of Columbia, the Federal Bureau of Prisons, and one local authority) responsible for keeping records on parolees will be asked to provide information for the following categories:

(a) As of January 1, 2005, and December 31, 2005, the number of adult parolees under their jurisdiction;

(b) The number of adults entering parole during 2005 through discretionary release from prison, mandatory release from prison, or reinstatement of parole;

(c) The number of adults released from parole during 2005 through successful completion, incarceration, absconder status, transfer to another parole jurisdiction, or death;

(d) Whether adult parolees supervised out of State have been included in the total number of parolees on December 31, 2005, and the number of adult parolees supervised out of State;

(e) As of December 31, 2005, the number of male and female parolees under their jurisdiction;

(f) As of December 31, 2005, the number of white (not of Hispanic origin), black or African American (not of Hispanic origin), Hispanic or Latino, American Indian or Alaska Native, Asian, Native Hawaiian or Pacific Islander, two or more races, or additional categories in their information systems;

(g) As of December 31, 2005, the number of adult parolees under their jurisdiction with a sentence of more than one year, or a year or less;

(h) As of December 31, 2005, the number of adult parolees who had as their most serious offense a violent, property, drug, or other offense;

(i) As of December 31, 2005, the number of adult parolees under their jurisdiction who were active, inactive, absconders, or supervised out of state;

(j) As of December 31, 2005, the number of adult parolees under their jurisdiction who were supervised following a discretionary release, a mandatory release, a special conditional release, or other type of release from prison;

(k) Whether the parole authority operated an intensive supervision program, a program involving electronic monitoring, or had any parolees enrolled in a program that approximates a bootcamp, and the number of adult parolees in each of the programs as of December 31, 2005; and

(l) Of the adult parolees who died between January 1 and December 31, 2005, the number of deaths, by gender and by race.

For the CJ-8 form, 352 reporters (one from each State, the District of Columbia, and the Federal Bureau of Prisons; and 300 from local authorities) responsible for keeping records on probations will be asked to provide information for the following categories:

(a) As of January 1, 2005, and December 31, 2005, the number of adult probationers under their jurisdiction;

(b) The number of adults entering probation during 2005 with and without a sentence to incarceration;

(c) The number of adults discharged from probation during 2005 through successful completion, incarceration, absconder status, a detainer or warrant, transfer to another parole jurisdiction, and death;

(d) Whether adult probationers supervised out of State have been included in the total number of probationers on December 31, 2005, and the number of adult probationers supervised out of State;

(e) As of December 31, 2005, the number of male and female probationers under their jurisdiction;

(f) As of December 31, 2002, the number of white (not of Hispanic origin), black or African American (not of Hispanic origin), Hispanic or Latino, American Indian or Alaska Native, Asian, Native Hawaiian or Pacific Islander, two or more races, or additional categories in their information system;

(g) As of December 31, 2005, the number of adult probationers under their jurisdiction who were sentenced for a felony, misdemeanor, or other offense type;

(h) As of December 31, 2005, the number of adult probationers who had as their most serious offense a sexual assault, domestic violence offense, other assault, burglary, larceny or theft, fraud, drug law violation, driving while intoxicated or under the influence of alcohol or drugs, or other traffic offense.

(i) Whether the probation authority supervised any probationers held in local jails, prisons, community-based correctional facilities, or an ICE holding facility, and the number of adult probationers held in each on December 31, 2005;

(j) As of December 31, 2005, the number of adult probationers under their jurisdiction who had entered probation with a direct sentence to probation, a split sentence to probation, a suspended sentence to incarceration, or a suspended imposition of sentence;

(k) As of December 31, 2005, the number of adult probationers under their jurisdiction who were active, in a residential or other treatment program, inactive, absconders, those on warrant status, or supervised out of state;

(l) Whether the probation authority supervised any “paper-only” probationers who have never been under active supervision, and the number of those “paper-only” adult probationers on December 31, 2005;

(m) Whether the probation authority operated an intensive supervision program, a program involving electronic monitoring, or had any probationers enrolled in a program that approximates a bootcamp, and the number of adult probationers in each of the programs as of December 31, 2005; and

(n) Whether the probation authority contracted out to a private agency for supervision, and the number of probationers supervised by a private agency that were included in the total population on December 31, 2005.

For the CJ-8A form, 117 reporters (from local authorities) responsible for keeping records on probationers will be asked to provide information for the following categories:

(a) As of January 1, 2005, and December 31, 2005, the number of adult probationers under their jurisdiction;

(b) The number of adults entering probation and discharged from probation during 2005;

(c) As of December 31, 2005, the number of male and female probationers under their jurisdiction;

(d) As of December 31, 2005, the number of adult probationers under their jurisdiction who were sentenced for a felony, misdemeanor, or other offense type.

(e) Whether the probation authority supervised any “paper-only” probationers who have never been under active supervision, and the number of those “paper-only” adult probationers on December 31, 2005; and

(f) Whether the probation authority supervised any probationers held in a community-based correctional facility, and the number of adult probationers held in each on December 31, 2005.

The Bureau of Justice Statistics uses this information in published reports and for the U.S. Congress, Executive Office of the President, practitioners, researchers, students, the media, and others interested in criminal justice statistics.

(5) An estimate of the total number of respondents and the amount of time estimated for an average respondent to respond/reply: It is estimated that there will be 523 respondents, each taking 1.17 hours to respond.

(6) An estimate of the total public burden (in hours) associated with the collection: There are approximately 668 annual burden hours associated with this collection.

If additional information is required contact: Brenda E. Dyer, Department Clearance Officer, United States Department of Justice, Justice Management Division, Policy and Planning Staff, Patrick Henry Building, Suite 1600, 601 D Street, NW., Washington, DC 20530.

Dated: July 5, 2005.
Brenda E. Dyer,
Department Clearance Officer, Department of Justice.

[FR Doc. 05-13427 Filed 7-7-05; 8:45 am]

BILLING CODE 4410-18-P